DEPARTMENT OF ENERGY

Federal Energy Regulatory Commission

Notice of Application Ready for Environmental Analysis and Soliciting Comments, Recommendations, Terms and Conditions, and Prescriptions

February 4, 2003.

Take notice that the following hydroelectric application has been filed with the Commission and is available for public inspection.

a. Type of Application: Major New License.

b. Project No.: P-2574-032.

c. Date filed: April 29, 2002.

d. Applicant: Merimil Limited Partnership.

e. Name of Project: Lockwood Project.

f. Location: On the Kennebec River, in Kennebec County, at the City of Waterville and Town of Winslow, Maine. The project does not affect Federal lands.

g. Filed Pursuant to: Federal Power Act 16 U.S.C. 791 (a)—825(r).

h. Applicant Contact: Mr. F. Allen Wiley, c/o FLP Energy Maine Hydro LLC, 160 Capital Street, Augusta, ME 04330, (207) 623-8415.

i. FERC Contact: Nan Allen at (202) 502-6128 or nan.allen@ferc.gov.

j. Deadline for filing comments, recommendations, terms and conditions, and prescriptions: 60 days from the issuance of this notice.

All documents (original and eight copies) should be filed with: Magalie R. Salas, Secretary, Federal Energy Regulatory Commission, 888 First Street NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See 18 CFR 385.2001(a)(1)(iii) and the instructions on the Commission's Web site ( http://www.ferc.gov ) under the “e-Filing” link.

k. This application has been accepted, and is ready for environmental analysis at this time.

l. The existing Lockwood Project consists of: (1) A 1,035-foot-long dam, incorporating three spillway sections at elevation 52.16 feet M.S.L. with flashboards, a 160-foot-long forebay intake structure, a rock island, and a bridge abutment; (2) a 450-foot-long forebay; (3) an 81.5-acre reservoir with a gross storage capacity of 250 acre-feet; (3) two powerhouses, one containing six generating units and the second containing one generating unit, for a total installed capacity of 6,915 kilowatts (kW); (4) 4,225 feet of buried and overhead transmission facilities; and (5) appurtenant facilities. The project is estimated to generate an average of 42.6 million kW hours annually. The existing dam and project facilities are owned by the applicant.

m. A copy of the application is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659. A copy is also available for inspection and reproduction at the address in item h above.

n. All reply comments must be filed with the Commission within 105 days from the date of this notice.

Anyone may obtain an extension of time for these deadlines from the Commission only upon a showing of good cause or extraordinary circumstances in accordance with 18 CFR 385.2008.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

Procedural schedule and final amendments: The application will be processed according to the following Hydro Licensing Schedule. Revisions to the schedule will be made as appropriate.

Notice of the availability of the draft EIS July 2003 Initiate 10(j) process August 2003 Notice of the availability of the final EIS November 2003 Ready for Commission decision on the applicationMarch 2004

Final amendments to the application must be filed with the Commission no later than 30 days from the issuance date of the notice of ready for environmental analysis.

Magalie R. Salas,
Secretary.

[FR Doc. 03-3143 Filed 2-7-03; 8:45 am]

BILLING CODE 6717-01-P